DEPARTMENT OF TRANSPORTATION

Federal Aviation Administration

Notice of Submission Deadline for Schedule Information for Chicago O'Hare International Airport, John F. Kennedy International Airport, Los Angeles International Airport, Newark Liberty International Airport, and San Francisco International Airport for the Winter 2017 Scheduling Season

AGENCY: Federal Aviation Administration (FAA), Department of Transportation.

ACTION: Notice of submission deadline.

SUMMARY: Under this notice, the FAA announces the submission deadline of May 11, 2017, for winter 2017 flight schedules at Chicago O'Hare International Airport (ORD), John F. Kennedy International Airport (JFK), Los Angeles International Airport (LAX), Newark Liberty International Airport (EWR), and San Francisco International Airport (SFO), in accordance with the International Air Transport Association (IATA) Worldwide Slot Guidelines (WSG). The deadline coincides with the schedule submission deadline for the IATA Slot Conference for the winter 2017 scheduling season.

DATES: Schedules must be submitted no later than May 11, 2017.

ADDRESSES: Schedules may be submitted by email to: 7-AWA-slotadmin@faa.gov; facsimile: 202-267-7277; or by mail to the Slot Administration Office, AGC-200, Office of the Chief Counsel, 800 Independence Avenue SW., Washington, DC 20591.

FOR FURTHER INFORMATION CONTACT: Susan Pfingstler, System Operations Services, Air Traffic Organization, Federal Aviation Administration, 600 Independence Avenue SW., Washington, DC 20591; telephone number: 202-267-6462; email: susan.pfingstler@faa.gov.

SUPPLEMENTARY INFORMATION: The FAA has designated EWR, LAX, ORD, and SFO as IATA Level 2 airports and JFK as an IATA Level 3 airport. The FAA currently limits scheduled operations at JFK by Order.¹

¹ Operating Limitations at John F. Kennedy International Airport, 73 FR 3510 (Jan. 18, 2008) as most recently amended 81 FR 40167 (June 21, 2016).

The FAA is primarily concerned about scheduled and other regularly conducted commercial operations during peak hours, but carriers may submit schedule plans for the entire day. At ORD, the peak hours are 0700 to 2100 Central Time (1300 to 0300 UTC), at LAX and SFO from 0600 to 2300 Pacific Time (1400 to 0700 UTC), and at EWR and JFK from 0600 to 2300 Eastern Time (1100 to 0400 UTC). Carriers should submit schedule information in sufficient detail, including, at minimum, the operating carrier, flight number, scheduled time of operation, frequency, and effective dates. IATA standard schedule information format and data elements (Standard Schedules Information Manual or SSIM, Chapter 6) may be used. The WSG provides additional information on schedule submissions and updates at Level 2 and Level 3 airports.

The U.S. winter scheduling season for these airports is from October 29, 2017, through March 24, 2018, in recognition of the IATA northern winter period. The FAA understands there may be differences in schedule times due to U.S. daylight saving time dates and will accommodate these differences to the extent possible.

JFK will have construction in 2018 on Runway 13L/31R for rehabilitation of pavement and other airfield improvements. The Port Authority of New York and New Jersey (PANYNJ), the airport operator, is currently developing the construction phasing plans in consultation with FAA, airlines, and other stakeholders. The FAA and the PANYNJ will work together to minimize operational disruptions to the extent possible, similar to prior runway construction projects. As construction plans are developed, the FAA will review alternative runway configurations and operating procedures and model potential capacity and delay impacts. We expect the PANYNJ will conduct regular meetings with the FAA, airlines, and other stakeholders. Those meetings and other information provided by the PANYNJ will likely be the best source of project updates and potential operational impacts.

LAX will continue rehabilitation on Runway 7L/25R and taxiways during parts of the winter 2017 season. Los Angeles World Airports (LAWA), the airport operator, plans construction that will shorten the runway length through December. The runway will be limited to departing flights. Other airfield construction is not currently estimated to have significant operational impacts. LAWA conducts monthly meetings on construction updates with FAA local air traffic control, airline representatives, and other interested stakeholders. The LAWA meetings may be the best source of project updates and potential operational impacts.

The FAA will use hourly runway capacity throughput for the Level 2 airports in its schedule reviews, considering any differences associated with runway construction or other operational factors. The FAA regularly reviews operational performance metrics and trends to determine if demand, including arrival and departure distribution, during certain time periods may create operational issues and assess whether schedule adjustments or changes to scheduling limits are warranted during those periods.

There are a few cases where the FAA anticipates potential issues for winter 2017. Carriers are encouraged to take these potential issues into consideration before submitting schedules for winter 2017 and should be prepared to adjust schedules to meet available capacity in order to minimize potential congestion and delay. At EWR, the 0700 to 0859 and 1400-2059 Eastern Time (1200 to 1359 and 1900 to 0159 UTC) hours are expected to be the highest demand periods and not all requests for new flights are likely to be accommodated during those times. At LAX and SFO, the 0700 to 1359 Pacific Time (1500 to 2159 UTC) hours are expected to be the highest demand hours. At ORD, the FAA will continue to review cumulative demand and peaking of scheduled operations to identify potential congested periods. As in previous seasons, at JFK, there is limited availability for new operations outside the mid-morning and late evening periods. Anticipated late winter runway construction could also increase delays above levels normally experienced in that period.

Each Level 2 airport has a separate process adopted by the airport operator for securing terminal/gate availability for certain types of flights. These are primarily for international passenger flights or for flights operating at particular terminals or gates. The processes with the individual airports will continue separately from, and in addition to, the FAA review of schedules based on runway capacity. IATA maintains the schedule facilitator contact information for carriers planning operations at EWR, LAX, ORD, and SFO. There are multiple terminals at JFK and airlines are similarly responsible for securing terminal approval if needed. The FAA may consider the need to harmonize terminal and runway availability. However, this may not always be possible within the various airport and airline constraints.

Issued in Washington, DC, on April 21, 2017.
Michael C. Artist,
Acting Vice President, System Operations Services.

[FR Doc. 2017-08532 Filed 4-26-17; 8:45 am]

BILLING CODE 4910-13-P